DEPARTMENT OF ENERGY

10 CFR Part 430

[Docket No. EERE-2011-BT-STD-0043]

RIN 1904-AC51

Energy Conservation Standards for Wine Chillers and Miscellaneous Refrigeration Products: Public Meeting and Availability of the Framework Document

AGENCY: Office of Energy Efficiency and Renewable Energy, Department of Energy.

ACTION: Notice of public meeting and availability of the framework document.

SUMMARY: The U.S. Department of Energy (DOE) is considering establishing energy conservation standards for residential wine chillers and other residential refrigeration products. DOE will hold an informal public meeting to discuss and receive comments on its planned analytical approach and issues that it will address in this proceeding. DOE welcomes written comments and relevant data from the public on any subject within the scope of this notice. To inform stakeholders and facilitate this process, DOE has prepared a framework document that details the analytical approach and identifies several issues on which DOE is particularly interested in receiving comments. The framework document is available at http://www1.eere.energy.gov/buildings/appliance_standards/residential/refrigerators_freezers.html.

DATES: DOE will hold a public meeting on February 22, 2012, from 9 a.m. to 5 p.m. in Washington, DC. Additionally, DOE plans to conduct the public meeting via webinar. To participate via webinar, participants must notify DOE no later than Wednesday, February 15, 2012. Registration information, participant instructions, and information about the capabilities available to webinar participants will be published on the following Web site https://www1.gotomeeting.com/register/270198257. Participants are responsible for ensuring that their systems are compatible with the webinar software. Any person requesting to speak at the public meeting should submit such request along with a signed original and an electronic copy of the statements to be given at the public meeting before 4 p.m., Wednesday, February 15, 2012. Written comments are welcome, especially following the public meeting, and should be submitted by March 14, 2012.

ADDRESSES: The public meeting will be held at the U.S. Department of Energy, Forrestal Building, Room 8E-089, 1000 Independence Avenue SW., Washington, DC 20585-0121. To attend, please notify Ms. Brenda Edwards at (202) 586-2945. Please note that foreign nationals visiting DOE Headquarters are subject to advance security screening procedures, requiring a 30-day advance notice. Any foreign national wishing to participate in the public meeting should advise DOE as soon as possible by contacting Ms. Brenda Edwards at (202) 586-2945 to initiate the necessary procedures.

Any comments submitted must identify the framework document for Energy Conservation Standards for Wine Chillers and Miscellaneous Refrigeration Products, and provide docket number EERE-2011-BT-STD-0043 and/or Regulation Identifier Number (RIN) 1904-AC51. Comments may be submitted by any of the following methods:

• Federal eRulemaking Portal: http://www.regulations.gov Follow the instructions for submitting comments.

• Email: WineChillers-2011-STD-0043@ee.doe.gov. Include the docket number and/or RIN in the subject line of the message.

• Mail: Ms. Brenda Edwards, U.S. Department of Energy, Building Technologies Program, Mailstop EE-2J, Framework Document for Wine Chillers and Miscellaneous Refrigeration Products, EERE-2011-BT-STD-0043 and/or RIN 1904-AC51, 1000 Independence Avenue SW., Washington, DC 20585-0121. Phone: (202) 586-2945. Please submit one signed original paper copy.

• Hand Delivery/Courier: Ms. Brenda Edwards, U.S. Department of Energy, Building Technologies Program, 950 L'Enfant Plaza, SW., Suite 600, Washington, DC 20024. Phone: (202) 586-2945. Please submit one signed original paper copy. No telefacsimilies (faxes) will be accepted.

Docket: The docket is available for review at www.regulations.gov, including Federal Register notices, the framework document, comments, and other supporting documents and materials. All documents in the docket are listed in the www.regulations.gov index. However, not all documents in the index may be publicly available, such as information that is exempt from public disclosure.

A link to the docket Web page can be found at www.regulations.gov. The www.regulations.gov Web page contains a link to the docket for this notice, along with simple instructions on how to access all documents, including public comments, in the docket.

For further information on how to submit a comment or review other public comments and the docket, please contact Ms. Brenda Edwards at (202) 586-2945 or by email: Brenda.Edwards@ee.doe.gov.

FOR FURTHER INFORMATION CONTACT: Lucas Adin, U.S. Department of Energy, Office of Energy Efficiency and Renewable Energy, Building Technologies, EE-2J, 1000 Independence Avenue SW., Washington, DC 20585-0121. Phone: (202) 287-1317. Email: Lucas.Adin@ee.doe.gov or Michael Kido, U.S. Department of Energy, Office of General Counsel, GC-72, 1000 Independence Avenue SW., Washington, DC 20585-0121. Phone: (202) 586-9507. Email: Michael.Kido@hq.doe.gov.

SUPPLEMENTARY INFORMATION: Title III, Part B¹ of the Energy Policy and Conservation Act of 1975 (EPCA or the Act), Public Law 94-163 (42 U.S.C. 291-6309, as codified), established an energy conservation program for major household appliances, which includes residential refrigeration products. This program authorizes DOE to establish technologically feasible, economically justified energy efficiency regulations for certain consumer products that would be likely to result in substantial national energy savings, and for which both natural market forces and voluntary labeling programs have been and/or are expected to be ineffective in promoting energy efficiency. (42 U.S.C. 6295(l)(1))

¹ For editorial reasons, upon codification in the U.S. Code, Part B was redesignated Part A.

The National Appliance Energy Conservation Act of 1987 (NAECA), Public Law 100-12, amended EPCA and established energy conservation standards for refrigerators, refrigerator-freezers, and freezers (residential refrigeration products), as well as requirements for determining whether these standards should be amended. (42 U.S.C. 6295(b)) On November 17, 1989, DOE published a final rule in the Federal Register updating the energy conservation standards. The new standards became effective on January 1, 1993. 54 FR 47916. Subsequently, DOE determined that new standards for some of the product classes were based on incomplete data and incorrect analysis. As a result, DOE published a correction that amended the new standards for the following three product classes: (1) Refrigerators and refrigerator-freezers with manual defrost, (2) refrigerator-freezers with automatic defrost with a bottom-mounted freezer but without through-the-door (TTD) ice service, and (3) chest freezers and all other freezers. 55 FR 42845. DOE updated the performance standards once again for residential refrigeration products by publishing a final rule in the Federal Register on April 28, 1997. 62 FR 23102. The new standards became effective on July 1, 2001. By completing a second standards rulemaking, DOE had fulfilled its legislative requirement to conduct two cycles of standards rulemakings.

After the completion of these two rulemaking cycles, stakeholders submitted a petition in 2004 requesting that DOE conduct another rulemaking to amend the standards for residential refrigerator-freezers. In April 2005, DOE granted the petition and conducted a limited set of analyses to assess the potential energy savings and potential economic benefit of new standards. DOE issued a report in October 2005 detailing the analyses, which examined the technological and economic feasibility of new standards set at ENERGY STAR levels effective in 2005 for the two most popular product classes of refrigerators: top-mount refrigerator-freezers without TTD features and side-mount refrigerator-freezers with TTD features.² DOE confined its updated analysis to these two classes because they accounted for a majority of current product shipments. Depending on assumptions regarding the impact that standards would have on market efficiency, DOE estimated that amended standards at the 2005 ENERGY STAR levels would yield savings between 2.4 to 3.4 quadrillion British thermal units (Btu), with an associated economic impact to the Nation ranging from a burden or cost of $1.2 billion to a benefit or savings of $3.3 billion.

² U.S Department of Energy, “Analysis of Amended Energy Conservation Standards for Residential Refrigerator-Freezers”, October 2005, http://www1.eere.energy.gov/buildings/appliance_standards/pdfs/refrigerator_report_1.pdf.

In October 2005, DOE published draft data sheets containing the projected energy savings potential for refrigerator-freezers as part of its fiscal year 2006 schedule-setting process. The data sheets were based on the October 2005 draft technical report analyzing potential new amended energy conservation standards for residential refrigerator-freezers described above. The analysis was not extended to all refrigerator, refrigerator-freezer, and freezer product classes because of the large proportion of the market represented by the two product classes analyzed in detail (i.e. refrigerator-freezer—automatic defrost with top-mounted freezer without through-the-door ice service (product class 3) and refrigerator-freezer—automatic defrost with side-mounted freezer with through-the-door ice service (product class 7)) and because DOE expected that results for these product classes would be representative for all of the product classes. DOE had this expectation because these two product classes represent a large majority of refrigerator-freezers, which in turn represent the majority of energy use of refrigeration products. (See pages 5-9 and 2-1 of the 2005 report). The technical report and the associated data sheets helped direct the priorities for DOE's rulemaking activities. As a result, other products were given a higher priority, and limited rulemaking work on refrigerators and freezers was carried out in the following years prior to the enactment of the Energy Independence and Security Act of 2007, Public Law 110-140 (Dec. 19, 2007) (EISA).

EISA required DOE to publish a final rule to determine whether to amend the standards in effect for residential refrigeration products manufactured starting in 2014. Consistent with this requirement, DOE issued a notice of proposed rulemaking on September 27, 2010. 75 FR 59470. Subsequently, on September 15, 2011, DOE issued a final rule that established energy conservation standards for over 40 classes of residential refrigeration products. See 76 FR 57516 and 76 FR 70865 (November 16, 2011) (date correction notice). The standards adopted in that final rule were largely based on a consensus agreement that a coalition of energy efficiency advocates and industry representatives submitted to DOE in July 2010, see DOE Docket No. EERE-2008-BT-STD-0012, Comment 49,³ and provided manufacturers with the requisite three-year lead time contemplated by EPCA. See 42 U.S.C. 6295(m).

³ Note: In the regulations.gov Web site, this is listed as comment 52, although it was originally comment 49, and its header identifies it as comment 49.

In the preamble to the final rule, DOE discussed the issue of wine chiller coverage. See, e.g. 76 FR at 57534. The test procedure final rule and interim final rule distinguished between those products designed to safely store fresh food and those that were not. See 75 FR 78810, 78817 (Dec. 16, 2010). Wine chillers are not treated as refrigerators because they are not designed to be capable of achieving compartment temperatures below the 39 °F limit specified in the definition for “electric refrigerator.” See 10 CFR 430.2. DOE indicated that it would consider the coverage of wine chillers as part of a separate future rulemaking. Today's notice begins that process of examining the coverage of those residential refrigeration products, including wine chillers, that are not yet addressed by any Federal energy conservation standards. Under EPCA, refrigerators, refrigerator-freezers, and freezers are limited to those products that can be operated by alternating current electricity, but excluding (A) any type designed to be used without doors; and (B) any type which does not include a compressor and condenser unit as an integral part of the cabinet assembly. See 42 U.S.C. 6292(a)(1).

The framework document explains the issues, analyses, and process that DOE is considering for the development of energy efficiency standards for wine chillers and miscellaneous refrigeration products. An accompanying public meeting will be held that will focus on the analyses and issues contained in various sections of the framework document. DOE plans to present and solicit discussion regarding these issues. DOE will also make a brief presentation on the process that it plans to follow when evaluating potential standards for these products.

DOE encourages anyone who wishes to participate in the public meeting to obtain and review the framework document and to be prepared to discuss its contents. A copy of the draft framework document is available at http://www1.eere.energy.gov/buildings/appliance_standards/residential/refrigerators_freezers.html.

However, public meeting participants need not limit their comments to the topics identified in the framework document. DOE is also interested in receiving views on other relevant issues that participants believe would affect energy conservation standards for these products. DOE invites all interested parties, whether or not they participate in the public meeting, to submit in writing by March 14, 2012, comments and information on matters addressed in the framework document and on other matters relevant to consideration of standards for wine chillers and miscellaneous refrigeration products.

DOE will conduct the public meeting in an informal, facilitated, conference style. There shall be no discussion of proprietary information, costs or prices, market shares, or other commercial matters regulated by U.S. antitrust laws. A court reporter will record the minutes of the meeting, after which a transcript will be available for purchase from the court reporter and placed on the DOE Web site at www1.eere.energy.gov/buildings/appliance_standards/residential/refrigerators_freezers.htm.

After the public meeting and the close of the comment period for the framework document, DOE will begin collecting data, conducting the analyses as discussed at the public meeting, and reviewing public comments.

Anyone who wishes to participate in the public meeting, receive meeting materials, or be added to the DOE mailing list to receive future notices and information about wine chillers and miscellaneous refrigeration products should contact Ms. Brenda Edwards at (202) 586-2945.

Issued in Washington, DC, on February 6, 2012.
Kathleen B. Hogan,
Deputy Assistant Secretary for Energy Efficiency, Energy Efficiency and Renewable Energy.

[FR Doc. 2012-3261 Filed 2-10-12; 8:45 am]

BILLING CODE 6450-01-P